DEPARTMENT OF STATE

[Public Notice 9157]

International Maritime Organization's Technical Co-operation Committee; Notice of a Public Meeting

The Department of State announces in conjunction with The U.S. Coast Guard an open meeting at 9:30 a.m. on Thursday, June 18, 2015, in Room 5L18-01 of the United States Coast Guard Headquarters Building, 2703 Martin Luther King Jr. Ave. SE., Washington DC 20593. The primary purpose of the meeting is to prepare for the sixty-fifth Session of the International Maritime Organization's (IMO) Technical Co-operation Committee (TC 65) to be held at the IMO Headquarters, United Kingdom from June 22 to 24, 2015 and the one hundred and fourteenth Session of the IMO Council (C 114) to be held at the IMO Headquarters, United Kingdom, June 29-July 3, 2015.

The agenda items to be considered include:

Sixty-Fifth Session of the Technical Co-Operation Committee

—Adoption of the agenda

—Work of other bodies and organizations

—Integrated Technical Co-operation Programme

—Financing the Integrated technical Co-operation Programme

—Linkage between the ITCP and the Millennium Development Goals

—The post 2015 agenda

—Partnerships

—Voluntary IMO Member State Audit Scheme and IMO Member States Audit Scheme

—Capacity building: Strengthening the impact of women in the maritime sector

—Global maritime training institutions

—Impact Assessment Exercise for the period 2012-2015: general principles and methodology

—Application of the Committee's guidelines

—Work programme

—Election of Chairman and Vice-Chairman for 2016

—Any other business

—Consideration of the report of the Committee on its sixty-fifth session

One Hundred and Fourteenth Session of Council

—Adoption of the agenda

—Report of the Secretary-General on credentials

—Strategy, planning and reform

—Resource management:

—Human resources matters, including amendments to the Staff Regulations and Staff Rules

—Accounts and audit: accounts for the financial period 2014 and transfers within the 2014 budget

—Report on investments

—Report on arrears of contributions and of advances to the Working Capital Fund and on the implementation of Article 61 of the IMO Convention

—Budget considerations for 2015

—Results-based budget for 2016-2017

—IMO Member State Audit Scheme

—Consideration of the report of the Legal Committee

—Consideration of the report of the Marine Environment Protection Committee

—Consideration of the report of the Maritime Safety Committee

—Consideration of the report of the Technical Cooperation Committee

—Technical Cooperation Fund

—Report on activities of the 2014 programme

—Biennial allocation to support the ITCP for 2016-2017

—Protection of vital shipping lanes

—Periodic review of administrative requirements in mandatory IMO instruments

—World Maritime University:

—Report of the Board of Governors

—Budget

—Financial sustainability

—IMO International Maritime Law Institute:

—Report of the Governing Board

—Budget

—Assembly matters:

—Provisional agenda for the twenty-ninth regular session of the Assembly

—Preparations for the twenty-ninth regular session of the Assembly

—Draft report of the Council to the Assembly on the work of the Organization since the twenty-eighth regular session of the Assembly

—Appointment of the External Auditor

—External relations:

—Relations with the United Nations and the specialized agencies

—Joint Inspection Unit

—Relations with non-governmental organizations

—World Maritime Day

—International Maritime Prize

—IMO Award for Exceptional Bravery at Sea

—Report on Day of the Seafarer 2015

—Report on the status of the Convention and membership of the Organization

—Report on the status of conventions and other multilateral instruments in respect of which the Organization performs functions

—Appointment of the Secretary-General

—Appreciation of the services to the Organization of Mr. K. Sekimizu

—Place, date and duration of the next two sessions of the Council (C/ES.28 and C 115)

—Supplementary agenda items, if any

Members of the public may attend this meeting up to the seating capacity of the room. To facilitate the building security process, and to request reasonable accommodation, those who plan to attend should contact the meeting coordinator, LCDR Tiffany Duffy, by email at tiffany.a.duffy@uscg.mil, by phone at (202) 372-1403, not later than June 11, 2015, 7 days prior to the meeting. Requests made after June 11, 2015 might not be able to be accommodated. Please note that due to security considerations, two valid, government issued photo identifications must be presented to gain entrance to the Headquarters building. The Headquarters building is accessible by taxi and privately owned conveyance (public transportation is not generally available). However, parking in the vicinity of the building is extremely limited. Additional information regarding this and other public meetings may be found at: www.uscg.mil/imo.

Dated: May 27, 2015.
Marc Zlomek,
Commander, Office of Ocean and Polar Affairs, Department of State.

[FR Doc. 2015-13443 Filed 6-1-15; 8:45 am]

BILLING CODE 4710-09-P